DEPARTMENT OF LABOR

Employment and Training Administration

[TA-W-80,264]

Keithley Instruments Including On-Site Leased Workers from StaffMatrix and ADECCO, Solon, OH; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 8, 2011, applicable to workers of Keithley Instruments, Solon, Ohio. The workers are engaged in activities related to the production of electronic test and measurement equipment. The notice was published in the Federal Register on July 29, 2011 (76 FR 45623).

At the request of the State agency, the Department reviewed the certification for workers of the subject firm. New information shows that workers leased from Adecco were employed on-site at the Solon, Ohio location of Keithley Instruments. The Department has determined that these workers were sufficiently under the control of Keithley Instruments to be considered leased workers.

The intent of the Department's certification is to include all workers of the subject firm adversely affected by an actual/likely increase in imports of electronic test and measurement equipment following a shift to another country.

Based on these findings, the Department is amending this certification to include workers leased from Adecco working on-site at the Solon, Ohio location of the subject firm.

The amended notice applicable to TA-W-80,264 is hereby issued as follows:

All workers of Keithley Instruments, including on-site leased workers from StaffMatrix and Adecco, Solon, Ohio, who became totally or partially separated from employment on or after June 30, 2010, through July 8, 2013, are eligible to apply for adjustment assistance under Section 223 of the Trade Act of 1974, and are also eligible to apply for alternative trade adjustment assistance under Section 246 of the Trade Act of 1974.

Signed at Washington, DC, this 14th day of February 2012.
Michael W. Jaffe,
Certifying Officer, Office of Trade Adjustment Assistance.

[FR Doc. 2012-4579 Filed 2-27-12; 8:45 am]

BILLING CODE 4510-FN-P